DEPARTMENT OF THE INTERIOR

Bureau of Land Management

[L16100000.DP0000 LX.SS.E0900000]

Notice of Availability of the Draft Resource Management Plan and Draft Environmental Impact Statement for the North Dakota Field Office

AGENCY: Bureau of Land Management, Interior.

ACTION: Notice of availability.

SUMMARY: In accordance with the National Environmental Policy Act of 1969, as amended (NEPA), and the Federal Land Policy and Management Act of 1976, as amended, the Bureau of Land Management (BLM) has prepared a draft resource management plan (RMP) and draft environmental impact statement (EIS) for the North Dakota Field Office and by this notice announces the opening of the comment period on the Draft RMP/EIS. This notice also announces the comment period on the BLM's proposed area of critical environmental concern (ACEC) within the RMP area.

DATES: This notice announces the opening of a 90-day comment period for the Draft RMP/EIS beginning with the date of the Environmental Protection Agency's (EPA) publication of its Notice of Availability (NOA) of the Draft RMP/EIS in the Federal Register. The EPA usually publishes its NOAs on Fridays.

To afford the BLM the opportunity to consider comments in the Proposed RMP/Final EIS, please ensure that the BLM receives your comments prior to the close of the 90-day public comment period or 15 days after the last public meeting, whichever is later.

In addition, this notice also announces the opening of a concurrent 60-day comment period for the ACEC proposed in the Draft RMP.

The BLM will hold a total of three public meetings. One meeting will be held virtually and two meetings will be held in-person. In-person meeting locations will be announced along with details of all meetings once they are known. In compliance with Centers for Disease Control and Prevention public health guidelines, the BLM may need to hold public meetings in virtual format if county-level transmission of COVID-19 is “high” at the time of the public meetings. In that case, the BLM will hold three virtual public meetings.

In all cases, the dates and locations of meetings will be announced at least 15 days in advance through local media, social media, newspapers, and the ePlanning website (see ADDRESSES section).

ADDRESSES: The Draft RMP/EIS is available for review on the BLM ePlanning project website at https://eplanning.blm.gov/eplanning-ui/project/1505069/510. The ePlanning website also includes background information on the North Dakota RMP revision.

Written comments related to the North Dakota Draft RMP/EIS may be submitted by any of the following methods:

• Website: https://eplanning.blm.gov/eplanning-ui/project/1505069/510.

• Mail: North Dakota Field Office, Attention: North Dakota RMP/EIS, 99 23rd Ave. West, Suite A, Dickinson, ND 58601.

Documents pertinent to this proposal may be examined online at the ePlanning project website and at the North Dakota Field Office.

FOR FURTHER INFORMATION CONTACT: Kristine Braun, Planning and Environmental Coordinator for the Eastern Montana/Dakotas District, telephone (701) 227-7725; address North Dakota Field Office, 99 23rd Ave. West, Suite A, Dickinson, ND 58601; email kebraun@blm.gov. Individuals in the United States who are deaf, deafblind, hard of hearing, or have a speech disability may dial 711 (TTY, TDD, or TeleBraille) to access telecommunications relay services for contacting Mrs. Braun. Individuals outside the United States should use the relay services offered within their country to make international calls to the point-of-contact in the United States.

SUPPLEMENTARY INFORMATION: This document provides notice that the BLM Montana/Dakotas State Director has prepared a Draft RMP/EIS, provides information announcing the opening of the comment period on the Draft RMP/EIS, and announces the comment period on the BLM's proposed ACEC. The planning area includes the entire state of North Dakota and encompasses approximately 58,500 acres of BLM-managed public land and 4.1 million acres of BLM-managed mineral estate.

Purpose and Need for the Planning Effort

The need for the North Dakota RMP revision is to address changes in resource conditions, shifting demands for resource uses, new technologies, new program and resource guidance and policies, and new scientific information since the development of the 1988 RMP. The purpose of this RMP revision is to develop management direction to guide future land management for BLM-managed lands and minerals in North Dakota. The BLM has identified four specific purposes to describe BLM's distinctive role in the North Dakota landscape: (1) Provide recreational opportunities and improve access to BLM-managed lands; (2) Contribute to the conservation and recovery of threatened and endangered and special status species; (3) Manage mineral and energy development on BLM-managed lands; and (4) Manage for other social and scientific values.

Alternatives Including the Preferred Alternative

The BLM has analyzed four alternatives in detail, including the no action alternative. Alternative A is the No Action Alternative, which is a continuation of current management direction in the existing 1988 North Dakota RMP and associated amendments.

Alternative B emphasizes sustaining the ecological integrity of habitats for all priority plant, wildlife, and fish species, while allowing appropriate development scenarios for allowable uses, including opportunities for mineral and energy development. Where Federal oil and gas is available for leasing, major stipulations would apply to most areas. Alternative B would designate one special recreation management area (SRMA), two backcountry conservation areas (BCAs), and one ACEC, and would find three eligible Wild and Scenic River segments suitable for designation.

Alternative B.1 is a sub-alternative to Alternative B that provides the same management opportunities and protections as found under Alternative B for all resources except for coal. Alternative B.1 further restricts Federal coal leasing to only those areas within existing Federal mine permit boundaries.

Alternative C is similar to Alternative B but provides for more flexibility in management of natural and cultural resources while providing modest development of resource uses. Alternative C provides opportunities for Federal mineral and energy development with fewer restrictions than Alternative B, but more than Alternative A, in terms of major stipulations and areas determined unacceptable for Federal coal leasing. Alternative C provides for the same number of designated areas (one SRMA, two BCAs, one ACEC), but with reduced sizes and/or less restrictive management actions.

The BLM further considered six additional alternatives but dismissed these alternatives from detailed analysis as explained in the Draft RMP/EIS.

The State Director has identified Alternative B as the preferred alternative. Alternative B was found to best meet the State Director's planning guidance and, therefore, selected as the preferred alternative because it best meets the purpose and need, while aligning with Department of the Interior priorities.

ACECs

Consistent with land use planning regulations at 43 CFR 1610.7-2(b), the BLM is announcing the opening of a concurrent comment period on the ACEC proposed for designation in the preferred alternative. Comments may be submitted using any of the methods listed in the ADDRESSES section.

There is one proposed ACEC included in the preferred alternative: Mud Buttes (960 acres) located in Bowman County, North Dakota.

• Alternatives B and C: no surface occupancy for fluid minerals, unacceptable for coal leasing, closed to mineral material disposal, casual collection of invertebrate or plant fossils prohibited.

• Alternative B: right-of-way exclusion area, closed to nonenergy solid leasable minerals, and recommended for withdrawal from locatable mineral entry.

• Alternative C: right-of-way avoidance area, no surface disturbance allowed for nonenergy solid leasable mineral development.

Schedule for the Decision-Making Process

The BLM will provide additional opportunities for public participation consistent with the NEPA and land use planning processes, including a 30-day public protest period and a 60-day Governor's consistency review on the Proposed RMP. The Proposed RMP/Final EIS is anticipated to be available for public protest in the summer of 2023, with an approved RMP and Record of Decision in the fall of 2023.

The BLM will continue to consult with Indian Tribal Nations on a government-to-government basis in accordance with Executive Order 13175, BLM Manual 1780, and Departmental policies. Tribal concerns, including impacts on Indian trust assets and potential impacts to cultural resources, will be given due consideration.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2, 43 CFR 1610.7-2.)

Sonya Germann,
Montana/Dakotas State Director.

[FR Doc. 2023-00929 Filed 1-19-23; 8:45 am]

BILLING CODE 4310-DN-P